DEPARTMENT OF TRANSPORTATION

Office of the Secretary

[Docket OST-2005-21790]

Soliciting Comments on and Interest in Participating in the Essential Air Service Code-Sharing Pilot Program

AGENCY: Office of the Secretary, DOT.

ACTION: Notice.

SUMMARY: The Essential Air Service (EAS) program was created in 1978, as part of the Airline Deregulation Act of 1978, to ensure that small and isolated communities continued to receive air service by providing federal subsidy when necessary to maintain continuous service. 49 U.S.C. 41731. Vision 100—Century of Aviation Reauthorization Act, Pub. L. 108-176, Title IV, Subtitle A, Section 406, requires the Secretary of Transportation to establish a pilot program, under which the Secretary may require air carriers receiving EAS subsidy and major carriers serving large hub airports to participate in code-share arrangements for up to 10 EAS communities. The statutory language reads as follows:

SEC. 406. CODE-SHARING PROGRAM.

(a) In General.—The Secretary of Transportation shall establish a pilot program under which the Secretary may require air carriers providing air service with compensation under subchapter II of chapter 417 of title 49, United States Code, and major carriers (as defined in section 41716(a)(2) of such title) serving large hub airports (as defined in section 40102 of such title) to participate in multiple code-share arrangements consistent with normal industry practice whenever and wherever the Secretary determines that such multiple code-sharing arrangements would improve air transportation services.

(b) Limitation.—The Secretary may not require air carriers to participate in the pilot program under this section for more than 10 communities receiving service under subchapter II of chapter 417 of title 49, United States Code.

This language appears to contemplate mandatory code-sharing between major carriers and carriers receiving EAS subsidy. The Department is interested in receiving comments concerning: (a) Interest by air carriers in participating in the pilot program, (b) suggestions as to how such a pilot program should be structured, and (c) potential consequences if the statutory language concerning code-share agreements was implemented.

DATES: You should submit comments early enough to ensure that Docket Management receives them not later than 60 days after publication of this document.

ADDRESSES: You may submit comments (identified by the DOT DMS Docket Number) by any of the following methods:

• Web Site: http://dms.dot.gov. Follow the instructions for submitting comments on the DOT electronic docket site.

• Fax: (202) 493-2251.

• Mail: Docket Management Facility, U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

Instructions: All submissions must include the agency name and docket number or Regulatory Identification Number (RIN) for this rulemaking. For detailed instructions on submitting comments and additional information on the rulemaking process, see the Request for Comments heading under the SUPPLEMENTARY INFORMATION section of this document. Note that all comments received will be posted without change to http://dms.dot.gov, including any personal information provided. You may review DOT's complete Privacy Act Statement in the Federal Register published on April 11, 2000 (Volume 65, Number 70; Pages 19477-78) or you may visit http://dms.dot.gov.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Dennis DeVany; U.S. Department of Transportation; 400 7th Street, SW., Room 6417; Washington, DC 20590. Telephone (202) 366-1053.

Issued in Washington, DC on July 1, 2005.
Karan Bhatia,
Assistant Secretary for Aviation and International Affairs.

[FR Doc. 05-13630 Filed 7-11-05; 8:45 am]

BILLING CODE 4910-62-P